ENVIRONMENTAL PROTECTION AGENCY

[EPA-HQ-OPP-2024-0562; FRL-12480-01-OCSPP]

40 CFR Part 156

Pesticides; Petition Seeking Rulemaking To Modify Labeling Requirements for Pesticides and Devices

AGENCY: Environmental Protection Agency (EPA).

ACTION: Petition for rulemaking.

SUMMARY: The Environmental Protection Agency (EPA) is announcing the availability of and seeking public comment on a petition received from the Attorneys General of the States of Nebraska, Iowa, Alabama, Arkansas, Georgia, Indiana,

Louisiana, Montana, North Dakota, South Carolina, and South Dakota requesting the Agency initiate rulemaking to amend the existing regulations under the Federal Insecticide, Rodenticide, and Fungicide Act (FIFRA). The Attorneys General believe the Agency should modify its requirements such that any state labeling requirements inconsistent with EPA's findings and conclusions from its human health risk assessment on human health effects, such as a pesticide's likelihood to cause cancer, birth defects, or reproductive harm, constitute misbranding.

DATES: Comments must be received on or before February 20, 2025.

ADDRESSES: Submit your comments, identified by docket identification (ID) number EPA-HQ-OPP-2024-0562, by one of the following methods:

• Federal eRulemaking Portal: http://www.regulations.gov. Follow the online instructions for submitting comments. Do not submit electronically any information you consider to be Confidential Business Information (CBI) or other information whose disclosure is restricted by statute.

• Mail: OPP Docket, Environmental Protection Agency Docket Center (EPA/DC), (28221T), 1200 Pennsylvania Ave. NW, Washington, DC 20460-0001.

• Hand Delivery: To make special arrangements for hand delivery or delivery of boxed information, please follow the instructions at http://www.epa.gov/dockets/contacts.html.

Additional instructions on commenting or visiting the docket, along with more information about dockets generally, is available at http://www.epa.gov/dockets.

FOR FURTHER INFORMATION CONTACT: Charles Smith, Director, Registration Division (7505P), Office of Pesticide Programs, Environmental Protection Agency, 1200 Pennsylvania Ave. NW, Washington, DC 20460-0001; main telephone number: (202) 566-1030; email address: RDFRNotices@epa.gov.

SUPPLEMENTARY INFORMATION:

I. General Information

A. Does this action apply to me?

This action is directed to the public in general and may be of interest to a wide range of stakeholders including pesticide registrants, environmental, human health, and agricultural advocates, pesticide users, and members of the public interested in the use of pesticides. This listing is not intended to be exhaustive but rather provides a guide for readers regarding entities likely to be affected by his action. Because others may also be interested, the Agency has not attempted to describe all the specific entities that may be affected by this action.

B. What should I consider as I prepare my comments for EPA?

1. Submitting CBI. Do not submit this information to EPA through Regulations.gov or email. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When preparing and submitting your comments, see the commenting tips at https://www.epa.gov/dockets/commenting-epa-dockets.

II. What action is the Agency taking?

EPA requests public comment on a petition received from several state Attorneys General that asks EPA to amend 40 CFR 156.10(a)(5) by adding a paragraph (xi) to include the following as an example of statements or representations in the labeling which constitute misbranding: “Statements or conclusions regarding the product's human health effects, including the likelihood of causing cancer, birth defects, or reproductive harm, that are different from EPA's findings and conclusions stated in its human health risk assessment conducted during the registration review of the product's principal active ingredients.”

A copy of the petition is available in the docket.

Authority: 7 U.S.C. 136 et seq.

Dated: December 23, 2024.
Edward Messina,
Director, Office of Pesticide Programs.

[FR Doc. 2025-00251 Filed 1-17-25; 8:45 am]

BILLING CODE 6560-50-P